DEPARTMENT OF ENERGY

Federal Energy Regulatory Commission

[Docket No. EC05-83-000, et al.]

Worthington Generation, LLC, et al.; Electric Rate and Corporate Filings

May 20, 2005.

The following filings have been made with the Commission. The filings are listed in ascending order within each docket classification.

1. Worthington Generation, LLC

[Docket No. EC05-83-000]

Take notice that on May 18, 2005, Worthington Generation, LLC (Worthington) submitted an application pursuant to section 203 of the Federal Power Act for authorization of a disposition of jurisdictional facilities whereby Worthington, a wholly owned subsidiary of Hoosier Energy Rural Electric Cooperative, Inc. (Hoosier), proposes to transfer title to certain generator step-up transformers to Hoosier without consideration.

Comment Date: June 8, 2005.

2. Deer Park Energy Center Limited Partnership

[Docket No. EG05-55-000]

Take notice that on May 2, 2005, Deer Park Energy Center Limited Partnership (Applicant) filed with the Commission an amendment to its application for determination of exempt wholesale generator status pursuant to Part 365 of the Commission's regulations.

Applicant states that copies of the amendment were served upon the U.S. Securities and Exchange Commission and Public Utility Commission of Texas.

Comment Date: 5 p.m. June 3, 2005.

3. Pacific Gas & Electric Company

[Docket No. ER03-198-003]

Take notice that on May 16, 2005, Pacific Gas & Electric Company (PG&E) submitted notification of a change in status due to Pacific Gas & Electric's recent execution (and receipt of regulatory and bankruptcy court approval) of a power purchase contract (the Second Wraparound Agreement) with Mirant Corporation and its affiliates.

Comment Date: 5 p.m. June 6, 2005.

4. Bellows Falls Power Company, LLC

[Docket No. EG05-57-00]

Take notice that on May 19, 2005, Bellows Falls Power Company, LLC (BFPC or Applicant) filed an amendment to its April 4, 2005, application for a determination of exempt wholesale generator status pursuant to section 365.5 of the Commission's regulations, 18 CFR 365.5 (2004).

BFPC is a Delaware limited liability company that will lease and operate the Bellows Falls Hydroelectric Project from the Town of Rockingham, Vermont.

Comment Date: 5 p.m. June 10, 2005.

5. Midwest Independent Transmission System Operator, Inc., Public Utilities With Grandfathered Agreements in the Midwest ISO Region

[Docket Nos. ER04-691-039, ER04-106-009, and EL04-104-037]

Take notice that on May 16, 2005, the Midwest Independent Transmission system Operator, Inc. (Midwest ISO) submitted revisions to its open access transmission and energy tariff pursuant the Commission's order issued April 15, 2005.¹ The Midwest ISO requests an effective date of April 1, 2005.

¹ Midwest Independent Transmission System Operator, Inc., et al., 111 FERC ¶ 61,042 (2005).

The Midwest ISO states that it has electronically served a copy of this filing, with attachments, upon all Midwest ISO Tariff Customers, Midwest ISO Members, Member representatives of Transmission Owners and Non-Transmission Owners, the Midwest ISO Advisory Committee participants, as well as all state commissions within the region. In addition, the Midwest ISO also states that the filing has been posted electronically on the Midwest ISO's Web site at http://www.midwestiso.org under the heading “Filings to FERC” for other interested parties in this matter. The Midwest ISO will provide hard copies to any interested parties upon request.

Comment Date: 5 p.m. June 6, 2005.

6. Midwest Independent Transmission System Operator, Inc. Public Utilities With Grandfathered Agreements In the Midwest ISO Region

[Docket No. ER04-691-040 and EL04-104-038]

Take notice that on May 16, 2005, the Midwest Independent Transmission System Operator, Inc. (Midwest ISO) submitted an informational filing in compliance with the Commission's March 16, 2005, order in this proceeding, Midwest Independent Transmission System Operator, Inc., 110 FERC ¶ 61,289 (2005).

The Midwest ISO states that it has served a copy of this filing electronically, including attachments, upon all Tariff Customers under the Energy Markets Tariff, Midwest ISO members, Member representatives of Transmission Owners and Non-Transmission Owners, the Midwest ISO Advisory Committee participants, as well as all state commissions within the Region. In addition, the Midwest ISO states that the filing has been electronically posted on the Midwest ISO's Web site at http://www.midwestiso.org under the heading “Filings to FERC” for other interested parties in this matter. The Midwest ISO indicates that it will provide hard copies to any interested parties upon request.

Comment Date: 5 p.m. June 6, 2005.

7. Midwest Independent Transmission System Operator, Inc., Public Utilities With Grandfathered Agreements in the Midwest ISO Region Mid-Continent Area Power Pool

[Docket Nos. ER04-691-041, EL04-104-039, and ER04-960-005]

Take notice that on May 16, 2005, the Midwest Independent Transmission system Operator, Inc. (Midwest ISO) and Mid-Continent Area Power Pool (MAPP) (jointly, the Parties), submitted for filing a revised seams operating agreement between The Midwest Independent Transmission System Operator, Inc. and MAPPCOR. The Parties request an effective date of March 1, 2005.

The Parties state that it has served a copy of this filing electronically, including attachments, upon all Tariff Customers under the EMT, Midwest ISO Members, Member representatives of Transmission Owners and Non-Transmission Owners, the Midwest ISO Advisory Committee participants, as well as all State commissions within the region. In addition, the Parties state that the filing has been posted electronically on the Midwest ISO's Web site at http://www.midwestiso.org under the heading “Filings to FERC” for other interested parties in this matter. The Parties also state that the copies of this filing were also served upon all MAPP members, and each state electric utility regulatory commission in the MAPP region.

Comment date: 5 p.m. on June 6, 2005.

8. American Electric Power Service Corporation

[Docket Nos. ER05-31-003 and EL05-70-003]

Take notice that on May 10, 2005, American Electric Power Service Corporation, (AEPSC) on behalf of the AEP operating companies in its East Zone, (namely Appalachian Power Company, Columbus Southern Power Company, Indiana Michigan Power Company, Kentucky Power Company, Kingsport Power Company, Ohio Power Company, and Wheeling Power Company), submitted a compliance filing pursuant to the Commission's order issued March 9, 2005, in Docket Nos. ER05-31-000, ER05-31-001 and EL05-70-000, 110 FERC ¶ 61,276 (2005).

AEPSC states that copies of the filing were served on all parties on the official service lists in these proceedings.

Comment Date: 5 p.m. May 31, 2005.

9. PJM Interconnection, L.L.C.

[Docket No. ER05-697-001]

Take notice that on May 13, 2005, PJM Interconnection, L.L.C. (PJM), pursuant to the Commission's deficiency letter issued April 28, 2005, submitted an amendment to its March 11, 2005, filing of revisions to Schedule 2 of the PJM Open Access Transmission Tariff.

PJM states that copies of this filing have been served on all parties on the service list compiled by the Secretary in this proceeding.

Comment Date: 5 p.m. June 3, 2005.

Standard Paragraph

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling line to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For Assistance with any FERC Online service, please e-mail FERCOnlineSupport@ferc.gov or call (866) 208-3676 (toll free). For TTY, call (202) 502-8659.

Linda Mitry,
Deputy Secretary.

[FR Doc. E5-2695 Filed 5-26-05; 8:45 am]

BILLING CODE 6717-01-P